SMALL BUSINESS ADMINISTRATION

[Disaster Declaration #17581 and #17582; CALIFORNIA Disaster Number CA-00362]

Administrative Declaration of a Disaster for the State of California

AGENCY: U.S. Small Business Administration.

ACTION: Amendment 1.

SUMMARY: This is an amendment of the Administrative declaration of disaster for the State of California dated 08/19/2022.

Incident: McKinney Fire.

Incident Period: 07/29/2022 through 08/22/2022.

DATES: Issued on 09/07/2022.

Physical Loan Application Deadline Date: 10/18/2022.

Economic Injury (EIDL) Loan Application Deadline Date: 05/19/2023.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of the Administrator's disaster declaration for the State of California, dated 08/09/2022 is hereby amended to establish the incident period for this disaster as beginning 07/29/2022 and continuing through 08/22/2022.

All other information in the original declaration remains unchanged.

(Catalog of Federal Domestic Assistance Number 59008.)

Isabella Guzman,
Administrator.

[FR Doc. 2022-19844 Filed 9-13-22; 8:45 am]

BILLING CODE 8026-09-P